DEPARTMENT OF COMMERCE

International Trade Administration

[A-570-067]

Forged Steel Fittings From the People's Republic of China: Preliminary Results of Antidumping Duty Administrative Review and Rescission of Review, in Part; 2022-2023

AGENCY: Enforcement and Compliance, International Trade Administration, Department of Commerce.

SUMMARY: The U.S. Department of Commerce (Commerce) preliminarily determines that Yingkou Guangming Pipeline Industry Co., Ltd. (Yingkou Guangming), the sole mandatory respondent in this review and an exporter of forged steel fittings from People's Republic of China (China), has not established its eligibility for a separate rate, and is therefore part of the China-wide entity. Commerce also preliminarily determines that Jiangsu Forged Pipe Fittings Co., Ltd. (Jiangsu Forged) is also not eligible for a separate rate and is thus part of the China-wide entity. Further, Commerce is rescinding the administrative review with respect to Qingdao Bestflow Industrial Co., Ltd. (Qingdao Bestflow) and Xin Yi International Trade Co. Ltd. (Xin Yi). Interested parties are invited to comment on these preliminary results.

DATES: Applicable August 13, 2024.

FOR FURTHER INFORMATION CONTACT: Hannah Lee or Robert Palmer, AD/CVD Operations, Office VIII, Enforcement and Compliance, International Trade Administration, Department of Commerce, 1401 Constitution Avenue NW, Washington, DC 20230; telephone: (202) 482-1216 and (202) 482-9068, respectively.

SUPPLEMENTARY INFORMATION:

Background

On December 29, 2023, Commerce published the notice of initiation of this administrative review, covering four companies.¹ On March 27, 2024, Commerce selected Yingkou Guangming as a mandatory respondent, as it was the only remaining company under review that submitted a separate rate application (SRA) or a separate rate certification (SRC).² On March 29, 2024, Commerce issued Yingkou Guangming the standard non-market economy (NME) antidumping duty questionnaire.³ On April 19, 2024, Yingkou Guangming notified Commerce of its intent not to participate in this administrative review.⁴ On July 22, 2024, Commerce tolled certain deadlines in this administrative proceeding by seven days.⁵ The deadline for the preliminary results is now August 8, 2024.

¹ See Initiation of Antidumping and Countervailing Duty Administrative Reviews, 88 FR 90168 (December 29, 2023) (Initiation Notice).

² See Memorandum, “Respondent Selection,” dated March 27, 2024; see also Initiation Notice, 88 FR at 90168, 90170 (“Exporters and producers must file a timely Separate Rate Application or Certification if they want to be considered for individual examination.”).

³ See Commerce's Letter, “Request for Information,” dated March 29, 2024 (NME Questionnaire).

⁴ See Yingkou Guangming's Letter, “Yingkou Notice of Intent Not to Participate,” dated April 19, 2024 (Intent Not to Participate).

⁵ See Memorandum, “Tolling of Deadlines for Antidumping and Countervailing Duty Proceedings,” dated July 22, 2024.

For a complete description of the events that followed the initiation of this administrative review, see the Preliminary Decision Memorandum.⁶ A list of the topics included in the Preliminary Decision Memorandum is included in Appendix I to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Decision Memorandum for the Preliminary Results of the Antidumping Duty Administrative Review of Forged Steel Fittings from the People's Republic of China; 2022-2023,” dated concurrently with, and hereby adopted by, this notice (Preliminary Decision Memorandum).

Scope of the Order ⁷

⁷ See Forged Steel Fittings from Italy and the People's Republic of China: Antidumping Duty Orders, 83 FR 60397 (November 26, 2018) (Order).

The merchandise covered by the Order is carbon and alloy forged steel fittings, whether unfinished (commonly known as blanks or rough forgings) or finished. Subject carbon and alloy forged steel fittings are normally entered under Harmonized Tariff Schedule of the United States (HTSUS) subheadings 7307.99.1000, 7307.99.3000, 7307.99.5045, and 7307.99.5060. They also may be entered under HTSUS subheadings 7307.92.3010, 7307.92.3030, 7307.92.9000, and 7326.19.0010. The HTSUS subheadings and specifications are provided for convenience and customs purposes; the written description of the scope is dispositive. For a complete description of the scope of the Order, see the Preliminary Decision Memorandum.

Methodology

Commerce is conducting this review in accordance with section 751(a)(1)(B) of the Tariff Act of 1930, as amended (the Act) and 19 CFR 351.213. For a full description of the methodology underlying our conclusions, see the Preliminary Decision Memorandum.

Partial Rescission of Administrative Review

Pursuant to 19 CFR 351.213(d)(1), Commerce will rescind an administrative review, in whole or in part, if a party who requested the review withdraws the request within 90 days of the date of publication of the notice of initiation of the requested review. On January 8, 2024, Bonney Forge Corporation (the petitioner), withdrew its request for review for Qingdao Bestflow and Xin Yi.⁸ No other party requested a review of these exporters. Therefore, Commerce is rescinding this review with respect to Qingdao Bestflow and Xin Yi, pursuant to 19 CFR 351.213(d)(1).

⁸ See Petitioner's Letter, “Withdrawal of Requests for Administrative Reviews,” dated January 24, 2024.

Separate Rates

Commerce preliminarily finds that Jiangsu Forged did not establish its eligibility for a separate rate because it failed to provide an SRA or SRC. Commerce also preliminarily finds that Yingkou Guangming did not establish its eligibility for a separate rate. While Yingkou Guangming submitted an SRA, it did not respond to the antidumping duty questionnaire.⁹ As stated in the Initiation Notice, companies that submit an SRA or SRC which are subsequently selected as mandatory respondents must respond to all parts of Commerce's questionnaire in order to be eligible for separate-rate status.¹⁰ As such, we preliminarily determine that Jiangsu Forged and Yingkou Guangming are part of the China-wide entity. For additional information, see the Preliminary Decision Memorandum.

⁹ See Intent Not to Participate.

¹⁰ See Initiation Notice, 88 FR at 90169-70.

The China-Wide Entity

Commerce's policy regarding conditional review of the China-wide entity applies to this administrative review.¹¹ Under this policy, the China-wide entity will not be under review unless a party specifically requests and Commerce initiates, or Commerce self-initiates, a review of the China-wide entity.¹² Because no party requested a review of the China-wide entity and Commerce did not self-initiate a review of the China-wide entity for this review period, the China-wide entity is not under review and the China-wide entity's rate (i.e., 142.72 percent) is not subject to change.¹³ For additional information, see the Preliminary Decision Memorandum.

¹¹ See Antidumping Proceedings: Announcement of Change in Department Practice for Respondent Selection in Antidumping Proceedings and Conditional Review of the Nonmarket Economy Entity in NME Antidumping Duty Proceedings, 78 FR 65963 (November 4, 2013).

¹² Id.

¹³ See Order, 83 FR at 60397.

Disclosure and Public Comment

Normally, Commerce discloses to interested parties the calculations performed in preliminary results within five days of any public announcement or, if there is no public announcement, within five days of the date of publication of the notice of preliminary results in the Federal Register, in accordance with 19 CFR 351.224(b). However, as we have determined all companies under review, and not rescinded herein, to be part of the China-wide entity, and there were no calculations performed for the mandatory respondent, there are no calculations to disclose.

Pursuant to 19 CFR 351.309(c)(ii), interested parties may submit a case brief no later than 30 days after the date of publication of this notice. Rebuttal briefs, limited to issues raised in the case briefs, may be filed not later than five days after the date for filing case briefs.¹⁴ Interested parties who submit case briefs or rebuttal briefs in this proceeding must submit: (1) a table of contents listing each issue; and (2) a table of authorities.¹⁵

¹⁴ See 19 CFR 351.309(d); see also Administrative Protective Order, Service, and Other Procedures in Antidumping and Countervailing Duty Proceedings, 88 FR 67069, 67077 (September 29, 2023) (APO and Final Service Rule).

¹⁵ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁶ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁷

¹⁶ We use the term “issue” here to describe an argument that Commerce would normally address in a comment of the Issues and Decision Memorandum.

¹⁷ See APO and Final Service Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Final Results of Review

Unless the deadline is extended, Commerce intends to issue the final results of this administrative review, which will include the results of its analysis of issues raised in any briefs, within 120 days of publication of these preliminary results, pursuant to section 751(a)(3)(A) of the Act.

Assessment Rates

In accordance with section 751(a)(2)(C) of the Act, the final results of this review shall be the basis for the assessment of antidumping duties on entries of merchandise covered by this review. Upon issuance of the final results, Commerce will determine, and CBP shall assess, antidumping duties on all appropriate entries covered by this review.¹⁸ Commerce intends to issue assessment instructions to CBP no earlier than 35 days after the date of publication of the final results of this review. If a timely summons is filed at the U.S. Court of International Trade, the assessment instructions will direct CBP not to liquidate relevant entries until the time for parties to file a request for a statutory injunction has expired (i.e., within 90 days of publication).

¹⁸ See 19 CFR 351.212(b)(1).

If we continue to find in the final results that Jiangsu Forged and Yingkou Guangming are ineligible for a separate rate and are, therefore, considered part of the China-wide entity, we will instruct CBP to apply an antidumping duty assessment rate of 142.72 percent (i.e., the rate for the China-wide entity) to all entries of subject merchandise during the POR which were exported by those companies.

For Qingdao Bestflow and Xin Yi, for which Commerce is rescinding this administrative review, antidumping duties shall be assessed at rates equal to the cash deposit of estimated antidumping duties required at the time of entry, or withdrawal from warehouse, for consumption, in accordance with 19 CFR 351.212(c)(1)(i). Commerce intends to issue appropriate assessment instructions to CBP no earlier than 35 days after the date of publication of this notice (see Appendix III).

Cash Deposit Requirements

The following cash deposit requirements will be effective for all shipments of the subject merchandise entered, or withdrawn from warehouse, for consumption on or after the publication date of the final results of this administrative review, as provided for by section 751(a)(2)(C) of the Act: (1) for previously investigated or reviewed Chinese and non-Chinese exporters for which a review was not requested and that received a separate rate in a prior segment of this proceeding, the cash deposit rate will continue to be the existing exporter-specific rate; (2) for all Chinese exporters of subject merchandise that have not been found to be entitled to a separate rate, the cash deposit rate will be the rate for the China-wide entity (i.e., 142.72 percent); and (3) for all non-Chinese exporters of subject merchandise that have not received their own rate, the cash deposit rate will be the rate applicable to the Chinese exporter that supplied that non-Chinese exporter. These cash deposit requirements, when imposed, shall remain in effect until further notice.

Notification to Importers

This notice also serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Notification to Interested Parties

This administrative review and notice are issued and published in accordance with sections 751(a)(1) and 777(i)(1) of the Act, 19 CFR 351.213, and 19 CFR 351.221(b)(4).

Dated: August 6, 2024.
Scot Fullerton,
Acting Deputy Assistant Secretary for Antidumping and Countervailing Duty Operations.

Appendix I

List of Topics Discussed in the Preliminary Decision Memorandum

I. Summary

II. Background

III. Scope of the Order

IV. Partial Rescission of Review

V. Discussion of the Methodology

VI. Recommendation

Appendix II

Companies Preliminarily Not Eligible for a Separate Rate and Treated as Part of the China-Wide Entity

1. Jiangsu Forged Pipe Fittings Co., Ltd.

2. Yingkou Guangming Pipeline Industry Co., Ltd.

Appendix III

Companies Rescinded from Review

1. Qingdao Bestflow Industrial Co., Ltd.

2. Xin Yi International Trade Co. Ltd.

[FR Doc. 2024-18001 Filed 8-12-24; 8:45 am]

BILLING CODE 3510-DS-P